DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/READROOM/PETITION.HTM. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2013-044-C.

FR Notice: 78 FR 59068 (9/25/2013).

Petitioner: Rosebud Mining Company, P.O. Box 1025, Northern Cambria, Pennsylvania 15714.

Mine: Parkwood Mine, MSHA I.D. No. 36-08785, located in Armstrong County, Pennsylvania, and Kocjancic Mine, MSHA I.D. No. 36-09436, located in Jefferson County, Pennsylvania.

Regulation Affected: 30 CFR 75.503 (Permissible electric face equipment; maintenance), 18.35(a)(5)(i) (Portable (trailing) cables and cords)).

• Docket Number: M-2013-059-C.

FR Notice: 79 FR 11141 (2/27/2014).

Petitioner: Kimmel's Mining, Inc., P.O. Box 8, Williamstown, Pennsylvania 17098.

Mine: Williamstown Mine #1, MSHA I.D. No. 36-09435, located in Schuylkill County, Pennsylvania.

Regulation Affected: 30 CFR 75.1202-1(a) (Temporary notations, revisions, and supplements).

• Docket Number: M-2014-017-C.

FR Notice: 79 FR 30170 (5/27/2014).

Petitioner: AK Coal Resources, Inc., 1134 Stoystown Rd., Friedens, Pennsylvania 15541.

Mine: North Fork Mine, MSHA I.D. No. 36-10041, located in Somerset County, Pennsylvania.

Regulation Affected: 30 CFR 75.503 (Permissible electric face equipment; maintenance), 18.35(a)(5)(i) (Portable (trailing) cables and cords)).

• Docket Number: M-2015-007-C.

FR Notice: 80 FR 24280 (4/30/2015).

Petitioner: White Oak Resources LLC, P.O. Box 339, McLeansboro, Illinois 62859.

Mine: White Oak Mine No. 1, MSHA I.D. No. 11-03203, located in Hamilton County, Illinois.

Regulation Affected: 30 CFR 75.1700 (Oil and gas wells).

• Docket Number: M-2015-010-C.

FR Notice: 80 FR 24285 (4/30/2015).

Petitioner: Coyote Creek Mining Company, LLC, 6502 17th Street SW., Zap, North Dakota 58580.

Mine: Coyote Creek Mine, MSHA I.D. No. 32-01028, located in Mercer County, North Dakota.

Regulation Affected: 30 CFR 77.803 (Fail safe ground check circuits on high-voltage resistance grounded systems).

• Docket Number: M-2015-012-C.

FR Notice: 80 FR 28014 (5/15/2015).

Petitioner: Peabody Midwest Mining, LLC, P.O. Box 369, Coulterville, Illinois 62237.

Mine: Gateway North Mine, MSHA I.D. No. 11-03235, located in Randolph County, Illinois.

Regulation Affected: 30 CFR 75.1909(b)(6) (Nonpermissible diesel-powered equipment; design and performance requirements).

• Docket Number: M-2015-014-C.

FR Notice: 80 FR 42549 (7/17/2015).

Petitioner: XMV, Inc., 640 Clover Dew Dairy Road, Princeton, West Virginia 24740.

Mine: Mine No. 40, MSHA I.D. No. 46-09298, located in McDowell County, West Virginia.

Regulation Affected: 30 CFR 77.214(a) (Refuse piles; general).

• Docket Number: M-2015-018-C.

FR Notice: 80 FR 54596 (9/10/2015).

Petitioner: Macoupin Energy, LLC, P.O. Box 615, 14300 Brushy Mound Road, Carlinville, Illinois 62626.

Mine: Shay No. 1, MSHA I.D. No. 11-00726, located in Macoupin County, Illinois.

Regulation Affected: 30 CFR 75.1909(b)(6) (Nonpermissible diesel-powered equipment; design and performance requirements).

Modification Requested: The petitioner has requested that MSHA amend a previously submitted Proposed Decision and Order (PDO), Docket No.M-1999-056-C to add an additional Getman road grader, Model RDG-1504C, serial number 6718. When this amended PDO, Docket No. M-2015-018-C becomes final, it will supersede PDO Docket No. M-1999-056-C granted on December 3, 1999.

• Docket Number: M-2013-002-M.

FR Notice: 78 FR 7460 (2/1/2013).

Petitioner: Specialty Granules, Inc., 1101 Opal Court, Suite 315, Hagerstown, Maryland 21740.

Mine: Annapolis Mine, MSHA I.D. No. 23-00288, located in Iron County, Missouri.

Regulation Affected: 30 CFR 56.13020 (Use of compressed air)

• Docket Number: M-2014-019-M.

FR Notice: 79 FR 69135 (11/30/2014).

Petitioner: Sumitomo Metal Mining Pogo LLC, Shaw Creek Road, Delta Junction, Alaska 99737.

Mine: Pogo Mine, MSHA I.D. No. 50-01642, located in Southeast Fairbanks County, Alaska.

Regulation Affected: 30 CFR 57.14207 (Parking procedures for unattended equipment).

• Docket Number: M-2014-020-M.

FR Notice: 79 FR 71789 (12/3/2014).

Petitioner: Barrick Goldstrike Mine, Inc., 27 Miles North of Carlin, Carlin, Nevada 89822.

Mine: Arturo Mine, MSHA I.D. No. 26-02767, located in Eureka County, Nevada.

Regulation Affected: 30 CFR 56.6309(b) (Fuel oil requirements for ANFO).

Sheila McConnell,
Acting Director, Office of Standards, Regulations, and Variances.

[FR Doc. 2016-03724 Filed 2-22-16; 8:45 am]

BILLING CODE 4510-43-P